DEPARTMENT OF THE INTERIOR

Bureau of Land Management

[LLWO320000.L19900000.PO0000]

Renewal of Approved Information Collection

AGENCY: Bureau of Land Management, Interior.

ACTION: 60-Day notice and request for comments.

SUMMARY: In compliance with the Paperwork Reduction Act, the Bureau of Land Management (BLM) invites public comments on, and plans to request approval to continue, the collection of information which pertains to the use and occupancy under mining laws. The Office of Management and Budget (OMB) has assigned control number 1004-0169 to this information collection.

DATES: Please submit comments on the proposed information collection by August 4, 2014.

ADDRESSES: Comments may be submitted by mail, fax, or electronic mail.

Mail: U.S. Department of the Interior, Bureau of Land Management, 1849 C Street NW., Room 2134LM, Attention: Jean Sonneman, Washington, DC 20240. Fax: to Jean Sonneman at 202-245-0050. Electronic mail: Jean_Sonneman@blm.gov. Please indicate “Attn: 1004-0169” regardless of the form of your comments.

FOR FURTHER INFORMATION CONTACT: Adam Merrill at 202-912-7044. Persons who use a telecommunication device for the deaf may call the Federal Information Relay Service at 1-800-877-8339, to leave a message for Mr. Merrill.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8(d) and 1320.12(a)). This notice identifies an information collection that the BLM plans to submit to the OMB for approval. The Paperwork Reduction Act provides that an agency may not conduct or sponsor a collection of information unless it displays a valid OMB control number. Until the OMB approves a collection of information, you are not obligated to respond.

The BLM will request a 3-year term of approval for this information collection activity. Comments are invited on: (1) The need for the collection of information for the performance of the functions of the agency; (2) The accuracy of the agency's burden estimates; (3) Ways to enhance the quality, utility and clarity of the information collection; and (4) Ways to minimize the information collection burden on respondents, such as use of automated means of collection of the information. A summary of the public comments will accompany our submission of the information collection requests to the OMB.

Before including your address, phone number, email address, or other personal identifying information in your comment, you should be aware that your entire comment—including your personal identifying information — may be made publicly available at any time. While you can ask us in your comment to withhold your personal identifying information from public review, we cannot guarantee that we will be able to do so.

The following information is provided for the information collection:

Title: Use and Occupancy Under the Mining Laws (43 CFR subpart 3715).

OMB Control Number: 1004-0169.

Summary: This notice pertains to the collection of information that is necessary to manage the use and occupancy of public lands for developing mineral deposits under the Mining Laws.

Frequency of Collection: On occasion.

Forms: None.

Description of Respondents: Mining claimants and operators of prospecting, exploration, mining and procession operations.

Estimated Annual Non-Hour Costs: None.

The estimated annual reporting burdens for this collection are itemized in the table below.

Type of response | Number of responses | Time per response | Total hours (column B × column C)
A. | B. | C. | D.
Proposed occupancy 43 CFR 3715.3-2 | 156 | 2 hours | 312
Notification of existing use or occupancy 43 CFR 3715.4 | 10 | 2 hours | 20
Totals | 166 |  | 332

Jean Sonneman,
Bureau of Land Management, Information Collection Clearance Officer.

[FR Doc. 2014-12802 Filed 6-2-14; 8:45 am]

BILLING CODE 4310-84-P